DEPARTMENT OF COMMERCE

International Trade Administration

[A-580-809]

Circular Welded Non-Alloy Steel Pipe From the Republic of Korea: Final Results of Antidumping Duty Administrative Review; 2017-2018; Correction

AGENCY: Enforcement and Compliance, International Trade Administration, Department of Commerce.

ACTION: Notice; correction.

SUMMARY: The International Trade Administration published a document in the Federal Register of November 6, 2020, concerning the final results of the administrative review of circular welded non-alloy steel pipe (CWP) from the Republic of Korea (Korea) for the period of review of November 1, 2017 through October 31, 2018. The document contained an incorrect spelling.

FOR FURTHER INFORMATION CONTACT: Andre Gziryan, AD/CVD Operations, Office I, Enforcement and Compliance, International Trade Administration, U.S. Department of Commerce, 1401 Constitution Avenue NW, Washington, DC 20230; telephone: (202) 482-2201.

SUPPLEMENTARY INFORMATION:

Correction

In the Federal Register of November 6, 2020, in FR Doc 2020-24722, on page 71057, in the second column, correct Appendix II (List of Companies Not Individually Examined), number 22, to read “Ycp Co.” ¹

¹ Id. This respondent's name was similarly misspelled in the initiation notice and preliminary results. See Initiation of Antidumping and Countervailing Duty Administrative Reviews, 84 FR 2159 (February 6, 2019); see also Circular Welded Non-Alloy Steel Pipe from the Republic of Korea: Preliminary Results of Antidumping Duty Administrative Review; 2017-2018, 85 FR 2719 (January 16, 2020).

This correction to the Final Results is published in accordance with sections 751(a)(1) and 777(i)(1) of the Tariff Act of 1930, as amended.

Dated: November 19, 2020.
Jeffrey I. Kessler,
Assistant Secretary for Enforcement and Compliance.

[FR Doc. 2020-26181 Filed 12-4-20; 8:45 am]

BILLING CODE 3510-DS-P